NATIONAL ARCHIVES AND RECORDS ADMINISTRATION

Temporary Change in Hours at Regional Archives

AGENCY: National Archives and Records Administration (NARA).

ACTION: Notice of temporary change in research room hours at the Mid Atlantic Regional Archives in Philadelphia.

SUMMARY: The Mid Atlantic Regional Archives, located at 900 Market Street, Philadelphia, PA, will be temporarily closed to researchers on Tuesdays from the week of June 26, 2005 through the week of September 4, 2005, to allow staff to complete activities necessary for a planned relocation of certain, infrequently used records to an offsite storage facility with improved environmental controls.

DATES: June 27, 2005 through September 9, 2005.

FOR FURTHER INFORMATION CONTACT: Leslie.Simon at 215-606-0101.

SUPPLEMENTARY INFORMATION: The Mid Atlantic Regional Archives is in the middle of a planned move of a number of certain, infrequently used records to offsite storage to reduce rental costs and preserve the records space with better archival environmental controls. The records will not be accessible while in transit. After the move, these records will be accessible through the Mid Atlantic Regional Archives. Relevant entries in the Archival Research Catalogue (ARC) will be updated to reflect location and access changes.

The temporary, once-weekly closure will allow staff to complete activities necessary for the move (such as reboxing and cataloguing). To assist extended-stay researchers, NARA selected Tuesday for temporary closing to avoid conflict with the regular closing hours of other related Philadelphia institutions, such as the Historical Society of Pennsylvania's genealogy and manuscript collections, which are closed on Mondays. NARA Mid Atlantic out-of-town researchers, who frequently use multiple institutional archives, will not find them closed on the same day during the summer week days. The actual shipping of records will take place from July through October. However, normal hours will be restored the week of September 11, 2005.

Dated: June 17, 2005.
Thomas Mills,
Assistant Archivist for Regional Records Services.

[FR Doc. 05-12388 Filed 6-22-05; 8:45 am]

BILLING CODE 7515-01-P